SECURITIES AND EXCHANGE COMMISSION

Sunshine Act; meetings

Status: Closed meetings

Place: 450 Fifth Street, NW., Washington, DC.

Date and Time of Previously Announced Meeting: Tuesday, April 23, 2002 at 10 a.m. and Wednesday, April 24, 2002 at 10 a.m.

Change in the Meeting: Cancellation of Meeting/Time Change.

The closed meeting scheduled for Tuesday, April 23, 2002, has been cancelled. The closed meeting scheduled for Wednesday, April 24, 2002 at 10 a.m. has changed to Wednesday, April 24, 2002 at 9:30 a.m.

For further information, please contact the Office of the Secretary at (202) 942-7070.

Dated: April 23, 2002.
Margaret H. McFarland,
Deputy Secretary.

[FR Doc. 02-10287 Filed 4-23-02; 11:53 am]

BILLING CODE 8010-01-P